DEPARTMENT OF TRANSPORTATION

Federal Aviation Administration

14 CFR Part 39

[Docket No. FAA-2018-0975; Product Identifier 2018-NE-06-AD; Amendment 39-19492; AD 2018-20-03 R1]

RIN 2120-AA64

Airworthiness Directives; Hoffmann GmbH & Co. KG Propellers

AGENCY: Federal Aviation Administration (FAA), DOT.

ACTION: Final rule; request for comments.

SUMMARY: We are revising airworthiness directive (AD) 2018-20-03 for certain Hoffmann GmbH & Co. KG (Hoffmann) model HO-V 62 propellers. AD 2018-20-03 required removal of the affected propeller blades and installation of modified propeller blades marked with a change letter “A” or “B” suffix. This AD requires the removal and replacement of the affected propeller blades and installation of modified propeller blades marked with a change letter “A” or “B” suffix. This AD was prompted by a determination that the applicability and installation prohibition paragraphs of AD 2018-20-03 were incorrect. We inadvertently included all Hoffmann model HO-V 62 propeller blades that did not have a change letter “A” or “B” suffix added to the serial number (S/N) and marked on the blade in the applicability and installation prohibition paragraphs of AD 2018-20-03. Only Hoffmann model HO-V 62 propellers with certain S/Ns without a change letter “A” or “B” suffix are affected. We are issuing this AD to address the unsafe condition on these products.

DATES: This AD is effective December 12, 2018.

We must receive any comments on this AD by January 11, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC, 20590.

• Hand Delivery: U.S. Department of Transportation, Docket Operations, M-30, West Building Ground Floor, Room W12-140, 1200 New Jersey Avenue SE, Washington, DC, 20590, between 9 a.m. and 5 p.m., Monday through Friday, except Federal holidays.

For service information identified in this AD, contact Hoffmann Propeller GmbH & Co. KG, Sales and Service, Küpferlingstrasse 9, 83022 Rosenheim, Germany; phone: +49 (0) 8031 1878 0; fax: +49 (0) 8031 1878 78; email: info@hoffmann-prop.com. You may view this service information at the FAA, Engine & Propeller Standards Branch, 1200 District Avenue, Burlington, MA, 01803. For information on the availability of this material at the FAA, call 781-238-7759. It is also available on the internet at http://www.regulations.gov by searching for and locating Docket No. FAA-2018-0975.

Examining the AD Docket

You may examine the AD docket on the internet at http://www.regulations.gov by searching for and locating Docket No. FAA-2018-0975; or in person at Docket Operations between 9 a.m. and 5 p.m., Monday through Friday, except Federal holidays. The AD docket contains this final rule, the mandatory continuing airworthiness information, regulatory evaluation, any comments received, and other information. The street address for Docket Operations (phone: 800-647-5527) is listed above. Comments will be available in the AD docket shortly after receipt.

FOR FURTHER INFORMATION CONTACT: Maureen Maisttison, Aerospace Engineer, Boston ACO Branch, FAA, 1200 District Ave, Burlington, MA, 01803; phone: 781-238-7076; fax: 781-238-7898; email: maureen.maisttison@faa.gov.

SUPPLEMENTARY INFORMATION:

Discussion

We issued AD 2018-20-03, Amendment 39-19437 (83 FR 50821, October 10, 2018), (“AD 2018-20-03”), for Hoffmann model HO-V 62 propellers. AD 2018-20-03 required removal of the affected propeller blades and installation of modified propeller blades marked with a change letter “A” or “B” suffix. AD 2018-20-03 resulted from the failure of the propeller blade lag screws. We issued AD 2018-20-03 to prevent failure of the propeller.

Actions Since AD 2018-20-03 Was Issued

Since we issued AD 2018-20-03, we determined that we inadvertently included all Hoffmann S/N model HO-V 62 propeller blades without a change letter “A” or “B” suffix in the applicability and installation prohibition paragraphs of this AD. This AD corrects the applicability and installation prohibition paragraphs to affect only Hoffmann model HO-V 62 propeller blades with S/N 1 to 6049, inclusive. We are issuing this AD to address the unsafe condition on these products.

Related Service Information

We reviewed Hoffmann Propeller GmbH & Co. KG Service Bulletin (SB) E34 Rev. B, dated September 18, 2017. The SB describes the instructions for the removal and installation of the propeller blades. This service information is reasonably available because the interested parties have access to it through their normal course of business or by the means identified in the ADDRESSES section.

FAA's Determination

This product has been approved by the European Aviation Safety Agency (EASA), and is approved for operation in the United States. Pursuant to our bilateral agreement with the European Community, EASA has notified us of the unsafe condition described in the MCAI and service information referenced above. We are issuing this AD because we evaluated all the relevant information provided by EASA and determined the unsafe condition described previously is likely to exist or develop in other products of the same type design.

AD Requirements

This AD requires removal of the affected propeller blades and installation of modified propeller blades marked with a change letter “A” or “B” suffix.

FAA's Justification and Determination of the Effective Date

We are revising AD 2018-20-03 to correct the applicability and installation prohibition paragraphs, which were overly inclusive. We also reduced the compliance time in this AD to align more closely with the effective compliance time in AD 2018-20-03. We previously provided notice and an opportunity to comment on the substance of this rulemaking and received no comments. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this final rule. Send your comments to an address listed under the ADDRESSES section. Include the docket number FAA-2018-0975 and product identifier 2018-NE-06-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 50 propellers installed on airplanes of U.S. registry.

We estimate that 25 propellers will need to be replaced between overhaul and 25 propellers will need to be replaced at overhaul to comply with this AD:

Estimated Costs
Action | Labor cost | Parts cost | Cost per product | Cost on U.S. operators
Replace blades between overhaul | 3 work-hours × $85 per hour = $255 | $3,150 | $3,405 | $85,125
Replace blades at overhaul | 0 work-hours × $85 per hour = $0 | 3,150 | 3,150 | 78,750

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2018-20-03, Amendment 39-19437 (83 FR 50821, October 10, 2018), and adding the following new AD:

2018-20-03 R1 Hoffmann GmbH & Co. KG: Amendment 39-19492; Docket No. FAA-2018-0975; Product Identifier 2018-NE-06-AD.

(a) Effective Date

This AD is effective December 12, 2018.

(b) Affected ADs

This AD replaces AD 2018-20-03, Amendment 39-19437 (83 FR 50821, October 10, 2018).

(c) Applicability

This AD applies to Hoffmann GmbH & Co. KG (Hoffmann) model HO-V 62 propellers with a propeller blade serial number (S/N) 1 to 6049, inclusive. Hoffmann model HO-V 62 propeller blades marked with the change letter “A” or “B” suffix to the S/N are not affected by this AD.

(d) Subject

Joint Aircraft System Component (JASC) Code 6110, Propeller Assembly.

(e) Unsafe Condition

This AD was prompted by the failure of the propeller blade lag screws. We are issuing the AD to prevent failure of the propeller. The unsafe condition, if not addressed, could result in the release of the propeller blade, damage to the aircraft, and injury and/or loss of life.

(f) Compliance

Comply with this AD within the compliance times specified, unless already done.

(g) Required Actions

Within 15 days after the effective date of this AD, remove the affected propeller blades and install modified Hoffmann propeller blades marked with a change letter “A” or “B” suffix to the S/N marked on the blade.

(h) Installation Prohibition

After the effective date of this AD, do not install a Hoffmann model HO-V 62 propeller with a propeller blade S/N 1 to 6049 if it is not marked with a change letter “A” or “B” suffix to the S/N marked on the blade.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD.

(2) Before using any approved AMOC, notify your appropriate principal inspector, or lacking a principal inspector, the manager of the local flight standards district office/certificate holding district office.

(j) Related Information

(1) For more information about this AD, contact Maureen Maisttison, Aerospace Engineer, Boston ACO Branch, FAA, 1200 District Ave., Burlington, MA 01803; phone: 781-238-7076; fax: 781-238-7898; email: maureen.maisttison@faa.gov.

(2) Refer to European Aviation Safety Agency (EASA) AD 2017-0220, dated November 10, 2017, for more information. You may examine the EASA AD in the AD docket on the internet at http://www.regulations.gov by searching for and locating it in Docket No. FAA-2018-0975.

(k) Material Incorporated by Reference

None.

Issued in Burlington, Massachusetts, on November 19, 2018.
Robert J. Ganley,
Manager, Engine & Propeller Standards Branch, Aircraft Certification Service.

[FR Doc. 2018-25780 Filed 11-26-18; 8:45 am]

BILLING CODE 4910-13-P